DEPARTMENT OF LABOR

Employment and Training Administration

[TA-W-74,610; TA-W-74,610A]

Ocwen Loan Servicing, LLC, Including Workers Whose Wages Were Reported Under Barclays Capital Real Estate, d/b/a HomEQ Servicing, North Highlands, CA; Ocwen Loan Servicing, LLC, Including Workers Whose Wages Were Reported Under Barclays Capital Real Estate, D/B/A HomEQ Servicing, Raleigh, NC; Amended Certification Regarding Eligibility To Apply for Worker Adjustment Assistance

In accordance with section 223 of the Trade Act of 1974, as amended (“Act”), 19 U.S.C. 2273, the Department of Labor issued a Certification of Eligibility to Apply for Worker Adjustment Assistance on November 23, 2010, applicable to workers of Ocwen Loan Servicing, LLC, including workers whose wages were reported under HomEQ Servicing, North Highland, California. The notice was published in the Federal Register on December 8, 2010 (75 FR 76488). The notice as amended on December 17, 2010 to include workers whose wages were reported under HomEQ Services. The notice was published in the Federal Register on January 3, 2011 (76 FR 178).

At the request of the company, the Department reviewed the certification for workers of the subject firm. The workers supply loan servicing.

New information shows that workers separated from employment at the North Highland, California and Raleigh, North Carolina locations of Ocwen Loan Servicing, LLC had their wages reported through a separated unemployment insurance (UI) tax account under the name Barclays Capital Real Estate, d/b/a HomEQ Servicing.

Accordingly, the Department is amending this certification to properly reflex this matter.

The intent of the Department's certification is to include all workers the North Highlands, California and the Raleigh, North Carolina locations of Ocwen Loan Servicing, LLC who were adversely affected by a shift in loan services to a foreign country.

The amended notice applicable to TA-W-74,610 and TA-W-74,610A are hereby issued as follows:

All workers of Ocwen Loan Servicing, LLC, including workers whose wages were reported under Barclays Capital Real Estate, d/b/a HomEQ Servicing, North Highland, California (TA-W-74,610), and Ocwen Loan Servicing, LLC, including workers whose wages were reported under Barclays Capital Real Estate, d/b/a HomEQ Servicing, Raleigh, North Carolina (TA-W-74,610A), who became totally or partially separated from employment on or after September 7, 2009, through November 23, 2012, and all workers in the group threatened with total or partial separation from employment on the date of certification through two years from the date of certification, are eligible to apply for adjustment assistance under Chapter 2 of Title II of the Trade Act of 1974, as amended.

Signed in Washington, DC, this 4th day of January 2011.
Michael W. Jaffe,
Certifying Officer, Office of Trade Adjustment Assistance.

[FR Doc. 2011-748 Filed 1-13-11; 8:45 am]

BILLING CODE 4510-FN-P